DEPARTMENT OF HEALTH AND HUMAN SERVICES

Substance Abuse and Mental Health Services Administration

The President's New Freedom Commission on Mental Health; Notice of Meeting

Pursuant to Executive Order 13263, notice is hereby given of a meeting of The President's New Freedom Commission on Mental Health in June, 2002.

The meeting will be open and will consider how to best accomplish the Commission's mandate to conduct a comprehensive study of the United States mental health service delivery system and to make recommendations on improving the delivery of public and private mental health services for adults and children. It will, among other things, seek to establish issue priorities for the Commission, and will discuss administrative matters, including how to best receive public input on particular areas of interest.

Attendance by the public will be limited to space available. Public comments are welcome. Please communicate with the individual listed as contact below to make arrangements to comment or to request special accommodations for persons with disabilities.

Substantive program information, a summary of the meeting and a roster of Commission members may be obtained from the contact whose name and telephone number is listed below.

Committee Name: President's New Freedom Commission on Mental Health.

Meeting Date/Time: June 18, 2002, 9:30 a.m. to 4:30 p.m.; June 19, 2002, 8 a.m. to 12 p.m.

Place: Ritz Carlton at Pentagon City, 1250 S. Hayes Street, Salon III, Arlington, Virginia 22202.

Contact: Claire Heffernan, Executive Secretary 5600 Fishers Lane, Parklawn Building, Room 13C-26 Rockville, MD 20857. Telephone: (301) 443-1545; Fax: (301) 480-1554 and e-mail: Cheffern@samhsa.gov.

This notice is being published less than 15 days prior to the meeting due to the difficulty in coordinating the scheduling of the Commissioners and the urgent need to begin considering important mental health issues so as to present recommendations to the President in a timely fashion as set out in Executive Order No. 13263 (April 29, 2002).

Dated: June 7, 2002.
Toian Vaughn,
Committee Management Officer, Substance Abuse and Mental Health Services Administration.

[FR Doc. 02-14954 Filed 6-11-02; 8:45 am]

BILLING CODE 4162-20-P